DEPARTMENT OF TRANSPORTATION

Federal Aviation Administration

14 CFR Part 71

[Docket No. FAA-2013-0859; Airspace Docket No. 13-AWA-4]

RIN 2120-AA66

Modification of Class B Airspace; Salt Lake City, UT

AGENCY: Federal Aviation Administration (FAA), DOT.

ACTION: Final rule.

SUMMARY: This action amends the description of Area C and Area O of the Salt Lake City Class B airspace area by raising the floor of a small portion of Class B airspace between the Salt Lake City Class B surface area and the Hill Air Force Base (AFB) Class D airspace area. This action raises the Class B airspace floor in the northeast corner of Area C from 6,000 feet mean seal level (MSL) to 7,500 feet MSL, and redefines the new boundary segment using the power lines underlying the area. This action enhances the safety and flow of Visual Flight Rules (VFR) aircraft transitioning north and south through the Salt Lake Valley over Interstate 15.

DATES: Effective Date: 0901 UTC, October 16, 2014. The Director of the Federal Register approves this incorporation by reference action under 1 CFR part 51, subject to the annual revision of FAA Order 7400.9 and publication of conforming amendments.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On December 19, 2013, the FAA published in the Federal Register a notice of proposed rulemaking (NPRM) to modify areas C and O of the Salt Lake City, UT, Class B airspace area (78 FR 76781). Interested parties were invited to participate in this rulemaking effort by submitting written comments on the proposal. No comments were received in response to the NPRM.

The Rule

The FAA is amending Title 14 of the Code of Federal Regulations (14 CFR) part 71 by modifying the Salt Lake City Class B airspace area. This action raises the floor of a portion of Class B airspace in the northeast corner of Area C from 6,000 feet MSL to 7,500 feet MSL. The portion of Class B airspace raised lies northeast of the power lines running northwest and southeast under Area C and is incorporated into the description of Area O, which has a 7,500 foot MSL Class B airspace floor. The power lines under Area C are used to visually define the new shared boundary between Area C and Area O in that area. These modifications enhance the safety and flow of VFR aircraft transitioning north and south in the Salt Lake Valley by following I-15, while continuing to support containment of large turbine-powered aircraft flying instrument procedures within Class B airspace.

The Salt Lake City Class B airspace Areas A, B, and D through N subareas are unchanged. The modifications to the Salt Lake City Class B airspace Area C and Area O subareas are outlined below.

Area C. Area C includes the airspace extending upward from 6,000 feet MSL to 12,000 feet MSL. The northeast boundary of Area C is defined by a line drawn west of and parallel to the power lines that run northwest and southeast between the Wasatch VHF Omni-directional Range/Tactical Air Navigation (VORTAC) (TCH) 006° radial 9.5-mile Distance Measuring Equipment (DME) at lat. 41°00′28″ N., long. 111°57′36″ W., and the TCH 016° radial 8.1-mile DME at lat. 40°58′48″ N., long. 111°55′58″ W. The floor of Class B airspace located immediately northeast of the power lines just described is raised from 6,000 feet MSL to 7,500 feet MSL and incorporated into the adjacent Area O subarea. The remainder of Area C is unchanged.

Area O. Area O includes the airspace extending upward from 7,500 feet MSL to 12,000 feet MSL. The boundary of the area is realigned to match the segment of the power lines that run northwest and southeast between the TCH 006° radial 9.5-mile DME at lat. 41°00′28″ N., long. 111°57′36″ W., and the TCH 016° radial 8.1-mile DME at lat. 40°58′48″ N., long. 111°55′58″ W. used to define the northeast boundary of Area C. The portion of Class B airspace incorporated into Area O raises the floor of Class B airspace in that area from 6,000 feet MSL to 7,500 feet MSL. The remainder of Area O is unchanged.

All radials listed in this Salt Lake City Class B airspace area modification are stated in degrees relative to True North. All geographic coordinates are stated in degrees, minutes, and seconds based on North American Datum 83.

Implementation of the modification to the Salt Lake City Class B airspace area continues to ensure containment of large turbine-powered aircraft within Class B airspace as required by FAA directive. Additionally, this action allows VFR aircraft to transition east/west, north of the Salt Lake City Class B surface area, and north/south, to and from Salt Lake City Airport, using I-15 as an easily identifiable visual landmark outside of Class B airspace below 7,500 feet MSL. This modification enhances the safety and efficient management of aircraft operations in the Salt Lake City, UT, terminal area.

Class B airspace areas are published in paragraph 3000 of FAA Order 7400.9X, Airspace Designations and Reporting Points, dated August 7, 2013, and effective September 15, 2013, which is incorporated by reference in 14 CFR 71.1. The Class B airspace area listed in this document will be published subsequently in the Order.

Regulatory Evaluation Summary

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this final rule. The reasoning for this determination follows:

This final rule has the following benefits.

This final rule will improve the flow of air traffic, enhance safety, and reduce the potential for midair collision in the Salt Lake City Class B airspace.

Implementation of the modification to the Salt Lake City Class B airspace area will continue to ensure containment of large turbine-powered aircraft within Class B airspace as required by FAA directive. Additionally, this action will allow VFR aircraft to transition east/west, north of the Salt Lake City Class B surface area, and north/south, to and from Salt Lake City Airport, using I-15 as an easily identifiable visual landmark outside of Class B airspace below 7,500 feet MSL. This modification will enhance the safety and efficient management of aircraft operations in the Salt Lake City, UT terminal area.

The FAA stated in the notice of proposed rulemaking the FAA belief that this final rule will result in minimal costs. We received no comments regarding this determination and therefore accept that this rule will result in minimal costs.

The FAA has, therefore, determined that this final rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes the rule will not have a significant economic impact on a substantial number of small entities as the economic impact is expected to be minimal. We received no comments regarding this determination in the notice of proposed rulemaking. As a result we accept our determination of minimal cost.

If an agency determines that a rulemaking will not result in a significant economic impact on a substantial number of small entities, the head of the agency may so certify under section 605(b) of the RFA. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that it will enhance safety and will not be considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151 million in lieu of $100 million.

This final rule does not contain such a mandate; therefore, the requirements of Title II of the Act do not apply.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9X, Airspace Designations and Reporting Points, dated August 7, 2013, and effective September 15, 2013, is amended as follows:

Paragraph 3000 Subpart B—Class B Airspace.

* * * * *

ANM UT B Salt Lake City, UT [Amended]

Salt Lake City International Airport (Primary Airport)

(Lat. 40°47′18″ N., long. 111°58′40″ W.)

Wasatch VORTAC (TCH)

(Lat. 40°51′01″ N., long. 111°58′55″ W.)

Hill AFB (HIF)

(Lat. 41°07′26″ N., long. 111°58′23″ W.)

Boundaries.

By removing the current descriptions of Area C and Area O, and adding in its place:

Area C. That airspace extending upward from 6,000 feet MSL to and including 12,000 feet MSL, within an area bounded by a line beginning at the TCH 316° radial 11.6-mile DME at lat. 40°59′21″ N., long. 112°09′33″ W.; thence east to a point west of the power lines at the TCH 006° radial 9.5-mile DME at lat. 41°00′28″ N., long. 111°57′36″ W.; thence southeast to a point west of the power lines at the TCH 016° radial 8.1-mile DME at lat. 40°58′48″ N., long. 111°55′58″ W.; thence south to the TCH 020° radial 6.6-mile DME at lat. 40°57′13″ N., long. 111°55′56″ W.; thence west to a point southeast of Seagull Point on Antelope Island at the TCH 304° radial 9.3-mile DME at lat. 40°56′13″ N., long. 112°09′05″ W.; thence north to the point of beginning.

Area O. That airspace extending upward from 7,500 feet MSL to and including 12,000 feet MSL, within an area bounded by a line beginning at the intersection of U.S. Highway 89 and a 4.3-mile radius from Hill AFB at the TCH 014° radial 13.6-mile DME at lat. 41°04′11″ N., long. 111°54′39″ W.; thence clockwise along the 4.3-mile radius from Hill AFB to 1700 South St. at the TCH 347° radial 14.7-mile DME at lat. 41°05′20″ N., long. 112°03′21″ W.; thence west along W. 1700 South St. to the TCH 329° radial 16.8-mile DME at lat. 41°05′22″ N., long. 112°10′20″ W.; thence south to the TCH 316° radial 11.6-mile DME at lat. 40°59′21″ N., long. 112°09′33″ W.; thence east to a point west of the power lines at the TCH 006° radial 9.5-mile DME at lat. 41°00′28″ N., long. 111°57′36″ W.; thence southeast to a point west of the power lines at the TCH 016° radial 8.1-mile DME at lat. 40°58′48″ N., long. 111°55′58″ W.; thence south to the TCH 020° radial 6.6-mile DME at lat. 40°57′13″ N., long. 111°55′56″ W.; thence south to the intersection of Redwood Rd. and W. 500 South St. at the TCH 049° radial 3.1-mile DME at lat. 40°53′02″ N., long. 111°55′48″ W.; thence south to Center St. at the TCH 102° radial 2.3-mile DME at lat. 40°50′32″ N., long. 111°55′57″ W.; thence east along Center St. to I-15 at the TCH 099° radial 3-mile DME at lat. 40°50′32″ N., long. 111°54′56″ W.; thence north along I-15 to U.S. Highway 89 at the TCH 024° radial 9-mile DME at lat. 40°59′14″ N., long. 111°54′05″ W.; thence north along U.S. Highway 89 to the point of beginning.

Issued in Washington, DC, on July 1, 2014.
Gary A. Norek,
Manager, Airspace Policy and Regulations Group.

[FR Doc. 2014-15914 Filed 7-8-14; 8:45 am]

BILLING CODE 4910-13-P